NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 26, 2007. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Brent S. Stewart, Senior Research Biologist, Hubbs-SeaWorld Research Institute, 2595 Ingraham Street, San Diego, CA 92109. Permit Application No. 2008-013.

Activity for Which Permit Is Requested: Take and Import into the USA. The applicant plans to capture, tag, collect blood and tissue samples, and photograph up to 50 each of Ross, Crabeater, Weddell and Leopard seals. The samples will be taken to the U.S. for further study and analysis. The aim of the research is on ice-associated Antarctic phocid carnivores is to collect basic information on the reproductive biology and behavior, disease and pathology, populations genetics, immunogenetics, foraging ecology and seasonal migrations and distribution of these species.

Location: Sea ice habitats of the western Bellingshausen, Amundsen and eastern Ross seas.

Dates: September 1, 2007 to 31 October 2008.

2. Applicant: Mahlon C. Kennicutt, II, Director Sustainable Development, Texas A&M University, 1112 TAMU, College Station, TX 77843-112. Permit Application No. 2008-014.

Activity for Which Permit Is Requested: Take and enter an Antarctic Specially Protected Area (ASPA). The applicant proposes to visit Cape Bird, and enter Hut Point (ASPA 158) and Arrival Heights (ASPA 122) to collect soil samples and permafrost measurements. These sites are specifically targeted because of the nature of their geology, climatic influences and topography. One site has been chosen as a reference control area for the study of temporal and spatial scales of various types of disturbances in and around McMurdo Station, Antarctica. Arrival Heights has been sampled in past seasons and is slated to be sampled as part of the ongoing environmental monitoring program.

Location: Cape Bird, Hut Point (ASPA 158) and Arrival Heights (ASPA 122), Ross Island.

Dates: November 17, 2007 to December 31, 2007.

3. Applicant: Jill P. Zamzow, Biology Department, University of Alabama, Birmingham, AL 35294. Permit Application No. 2008-015.

Activity for Which Permit Is Requested: Take and Introduce Non-indigenous Species into Antarctica. The applicant proposes to use frozen fish bait (Sardinops sagax, Scomber japonicus, and Trachurus symmetricus) to catch Antarctic fish (Notothenia coriiceps). The captured fish will be used for gut-content surveys.

Location: Vicinity of Palmer Station, Antarctica.

Dates: February 1, 2008 to July 1, 2008.

4. Applicant: Brent S. Stewart, Senior Research Biologist, Hubbs-SeaWorld Research Institute, 2595 Ingraham Street, San Diego, CA 92109. Permit Application No. 2008-017.

Activity for Which Permit Is Requested: Take. The applicant proposes to document the breeding behaviors of Ross seals, Crabeater seals, Weddell seals and Leopard seals by direct observation, photo-documentation, and in-air and underwater recordings of vocal activity. The approach will be to observe and record these animals from a distance where incidental disturbance to them will be avoided or minimized and brief.

Location: Western Amundsen, Bellingshausen and eastern Ross seas, Antarctica.

Dates: September 1, 2007 to November 1, 2007.

Nadene G. Kennedy,
Permit Officer, Office of Polar Programs.

[FR Doc. E7-16866 Filed 8-24-07; 8:45 am]

BILLING CODE 7555-01-P